DEPARTMENT OF COMMERCE

International Trade Administration

November 1999 Sunset Review: Final Results and Revocation

AGENCY: Import Administration, International Trade Administration, Department of Commerce.

ACTION: Notice of Final Results of Sunset Review and Revocation of Antidumping Duty Order: Professional Electric Cutting Tools from Japan (A-588-823).

SUMMARY: On November 2, 1999, the Department of Commerce (“the Department”) initiated a sunset review of the antidumping duty order on professional electric cutting tools from Japan (64 FR 59160). Because the domestic interested parties have withdrawn, in full, their participation in the ongoing sunset review, the Department is revoking this order.

EFFECTIVE DATE: January 1, 2000.

FOR FURTHER INFORMATION CONTACT: Martha Douthit or Lynn Barden, Office of Policy, Import Administration, International Trade Administration, U.S. Department of Commerce, 14th Street and Constitution Avenue, NW, Washington, DC 20230; telephone: (202) 482-5050 or (202) 482-3173, respectively.

SUPPLEMENTARY INFORMATION:

Background

The Department issued an antidumping duty order on professional electric cutting tools from Japan (58 FR 37461, July 12, 1993). On November 2, 1999, the Department initiated a sunset review of this order by publishing a notice of the initiation in the Federal Register (64 FR 59160). In addition, as a courtesy to interested parties, the Department sent letters, via certified and registered mail, to each party listed on the Department's most current service list for this proceeding to inform them of the automatic initiation of a sunset review of this order. In the sunset review of the antidumping duty order on professional electric cutting tools from Japan, we received a notice of intent to participate from Black & Decker (U.S.) Inc., and S-B Power Tool Company (collectively “the domestic interested parties”) by the November 17, 1999, deadline. We also received a complete substantive response from the domestic interested parties within the applicable deadline (see section 351.218(d)(1)(i) of the Department's regulations).

On May 15, 2000, we received a notice from the domestic interested parties withdrawing in full their participation in the five-year (sunset) review of the antidumping duty order on professional electric cutting tools from Japan. The domestic interested parties further stated that they no longer have an interest in maintaining the antidumping duty order. As a result, the Department determined that no domestic party intends to participate in the sunset review and, on May 24, 2000, we notified the International Trade Commission that we intended to issue a final determination revoking this antidumping duty order.¹

¹ See May 23, 2000, Letter from Jeffrey A. May, Director, Office of Policy, Import Administration, to Lynn Featherstone, Director, Office of Investigations, International Trade Commission, RE: Sunset Review of Antidumping Duty Order on Professional Electric Cutting Tools from Japan (A-588-823).

Determination To Revoke

Pursuant to section 751(c)(3)(A) of the Act and section 351.218(d)(1)(iii)(B)(3) of the Department's regulations, if no domestic interested party responds to the notice of initiation, the Department shall issue a final determination, within 90 days after the initiation of the review, revoking the finding or order or terminating the suspended investigation. Because the domestic interested parties withdrew both their notice of intent to participate and their complete substantive response from the review process, and no other domestic interested party filed a substantive response (see sections 351.218(d)(1)(i) and 351.218(d)(3) of the Department's regulations), we are revoking this antidumping duty order.

Effective Date of Revocation and Termination

Pursuant to section 751(c)(6)(A)(iv) of the Act, the Department will instruct the United States Customs Service to terminate the suspension of liquidation of the merchandise subject to this order entered, or withdrawn from warehouse, on or after January 1, 2000. Entries of subject merchandise prior to the effective date of revocation will continue to be subject to suspension of liquidation and antidumping duty deposit requirements. The Department will complete any pending administrative reviews of this order and will conduct administrative reviews of subject merchandise entered prior to the effective date of revocation in response to appropriately filed requests for review.

Dated: May 26, 2000.
Troy H. Cribb,
Acting Assistant Secretary for Import Administration.

[FR Doc. 00-13878 Filed 6-1-00; 8:45 am]

BILLING CODE 3510-DS-P